DEPARTMENT OF DEFENSE

Department of the Navy

Record of Decision for Introduction of F/A-18 E/F (Super Hornet) Aircraft to the East Coast of the United States

AGENCY: Department of the Navy, DOD.

ACTION: Notice of record of decision, correction.

SUMMARY: The Department of the Navy published a Notice in the Federal Register of September 10, 2003, concerning the Record of Decision for Introduction of F/A-18 E/F (Super Hornet) Aircraft to the East Coast of the United States. The document contained an incorrect statement and needs additional clarification.

FOR FURTHER INFORMATION CONTACT: Mr. Fred Pierson, Atlantic Division Naval Facilities Engineering Command (Code BD32FP), 6506 Hampton Blvd., Norfolk, VA 23508-1278, telephone (757) 322-4935.

Correction

In the Federal Register of September 10, 2003, in FR Doc. 03-53353, on page 53355, in the third column, second paragraph, delete the third sentence, “Aircraft will not be able to utilize visual flight rules (VFR) when transiting airspace in the area of Site C.” The statement is not correct and is now deleted from the decision.

On page 53355, in the third column, fourth paragraph, add the following statements for additional clarification to the end of the paragraph:

The Class D airspace will extend approximately five miles laterally from the OLF from the surface up to and including 2,500 feet above ground level. Establishment of Class D airspace is contingent upon results of an FAA Airspace Study. No military Special Use Airspace (SUA) will be established.

The revised version of the Record of Decision will also appear in the administrative record.

Dated: September 29, 2003.
E.F. McDonnell,
Major, Marine Corps, Federal Register Liaison Officer.

[FR Doc. 03-25024 Filed 10-1-03; 8:45 am]

BILLING CODE 3810-FF-P